DEPARTMENT OF COMMERCE

Census Bureau

Census Employment Inquiry

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 3, 2002.

ADDRESSES: Direct all written comments to Madeleine Clayton, Departmental Paperwork Clearance Officer, Department of Commerce, Room 6608, 14th and Constitution Avenue, NW, Washington, DC 20230 (or via the Internet at mclayton@doc.gov).

FOR FURTHER INFORMATION CONTACT: Requests for additional information or copies of the information collection instrument(s) and instructions should be directed to Kathleen A. Garcia, Bureau of the Census, Room 1727, Building #3, Washington, DC 20233, or (301) 457-2868.

SUPPLEMENTARY INFORMATION:

I. Abstract

The BC-170, Census Employment Inquiry, is used to collect information such as personal data and work experience from job applicants. The BC-170 is used throughout the census and intercensal periods for the Special Censuses and decennial census pretests and dress rehearsals for time limited appointments. Applicants completing the form for a census related position are applying for temporary jobs in office and field positions (clerks, enumerators, crew leaders, supervisors). In addition, as an option to the OF-612, Optional Application for Federal Employment, the BC-170 may be used when applying for temporary/permanent office and field positions (clerks, field representatives, supervisors) on a recurring survey in one of the Census Bureau's 12 Regional Offices (ROs) throughout the United States. This form is completed by job applicants before or at the time they are tested. Selecting officials review the information shown on the form to evaluate applicant's eligibility for employment.

During the decennial census, the BC-170 is intended to expedite hiring and selection in situations requiring large numbers of temporary employees for assignments of a limited duration. The form has been demonstrated to meet our recruitment needs for temporary workers and requires significantly less burden than the Office of Personnel Management Optional Forms that are available for use by the public when applying for Federal positions.

II. Method of Collection

We collect this information at the time of testing for temporary and permanent positions. Potential employees being tested complete a four-page paper application provided at the testing site.

III. Data

OMB Number: 0607-0139.

Form Number: BC-170.

Type of Review: Regular submission.

Affected Public: Individuals.

Estimated Number of Respondents: 176,000.

Estimated Time Per Response: 15 minutes.

Estimated Total Annual Burden Hours: 44,000.

Estimated Total Annual Cost: The only cost to the individual is his/her time for completing the BC-170.

Respondent's Obligation: Required to obtain a benefit.

Legal Authority: Title 13, U.S.C. Section 23.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 29, 2002.
Madeleine Clayton,
Departmental Paperwork Clearance Officer, Office of the Chief Information Officer.

[FR Doc. 02-8029 Filed 4-2-02; 8:45 am]

BILLING CODE 3510-07-P